DEPARTMENT OF DEFENSE

Office of the Secretary

[Transmittal No. 24-0X]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(5)(C) arms sales notification is published to fulfill the requirements of section 155 of Public Law 104-164 dated July 21, 1996. The following is a copy of a letter to the Speaker of the House of Representatives with attached Transmittal 24-0X.

Dated: December 10, 2025.
Stephanie J. Bost,
Alternate OSD Federal Register Liaison Officer, Department of Defense.

BILLING CODE 6001-FR-P

BILLING CODE 6001-FR-C

Transmittal No. 24-0X

REPORT OF ENHANCEMENT OR UPGRADE OF SENSITIVITY OF TECHNOLOGY OR CAPABILITY (SEC. 36(B)(5)(C), AECA)

(i) Purchaser: Government of Spain

(ii) Sec. 36(b)(1), AECA Transmittal No.: 22-09

Date: March 15, 2022

Implementing Agency: Navy

Funding Source: National Funds

(iii) Description: On March 15, 2022, Congress was notified by congressional certification transmittal number 22-09 of the possible sale under Section 36(b)(1) of the Arms Export Control Act of Spain's request to procure eight (8) MH-60R Multi-Mission helicopters; twenty (20) T-700-GE-401C engines (16 installed, 4 spares); thirty-two (32) AGM-114R(N) Hellfire missiles, all up rounds; two (2) Hellfire II Captive Air Training Missiles (CATM); one hundred (100) WGU-59/B Advanced Precision Kill Weapon System (APKWS) II Guidance Sections, all up rounds; eight (8) Link 16 Multifunctional Information Distribution Systems Joint Tactical Radio Systems (MIDS JTRS) BU 2 (8 installed); and four (4) Airborne Low Frequency Sonars (ALFS) (4 installed on 4 aircraft). Also included were M514 impulse cartridge/cartridge actuated devices; MJ20 cartridge actuated thruster/cartridge actuated devices; WB53 fire extinguisher cartridge/cartridge actuated devices; CCU-136A/A impulse cartridges; M299 Hellfire missile launchers; GAU-21 crew served guns (including pintle and laser pointer); LAU-61 digital rocket launchers; M152 High Explosive warheads for airborne 2.75 rockets; MK66 MOD 4, 2.75-inch rocket motors; rocket motors, 2.75-inch, MK-66-4 inert; WTU-1B inert warheads (HA23); AN/ARC-210 RT-2036 radios with Communications Security (COMSEC); AN/AAR-47 missile warning systems; AN/SSQ-62F sonobuoys; AN/SSQ-53G sonobuoys; AN/SSQ-36B sonobuoys; SRQ-4 Hawklink radio terminals with Hawklink Crypto Control Modules; AN/APX-123 Identification Friend or Foe (IFF) transponders; AN/ALE-47 dispenser, Electronic Countermeasures; Advanced Data Transfer Systems (ADTS); AN/AAS-44C(V) Multi-Spectral Targeting Systems; Identification Friend or Foe Mode ⅘ Cryptographic Applique, KIV-78; Joint Mission Planning Systems (JMPS); Embedded Global Positioning System/Precise Positioning Service (GPS/PPS)/Inertial Navigation Systems (EGI) with Selective Availability/Anti-Spoofing Module (SAASM); Airborne Low Frequency Sonars (ALFS) (aircraft provisions only for 4 aircraft); AN/ARQ-59 Hawklink radio terminals; Training Simulators/Operational Machine Interface Assistants (ATS/OMIA); tactical operational flight trainer; AN/ALQ-210 Electronic Support Measures (ESM) systems; APS-153(V) multi-mode radars; spare engine containers; spare and repair parts; support and test equipment; communications equipment; ferry support; publications and technical documentation; personnel training and training equipment; United States (U.S.) Government and contractor engineering, technical, and logistics support services; obsolescence engineering, integration, and test activities required to ensure readiness for the production of the Spanish MH-60R helicopters; and other related elements of logistics and program support. The total estimated program cost was $950 million. Major Defense Equipment (MDE) constituted $425 million of this total.

This transmittal notifies: 1) replacement of the previously notified non-MDE EGI with SAASM for, twenty-four (24) MDE EGI with SAASM; and 2) replacement of the previously notified twenty (20) MDE T-700-GE-401C engines for twenty (20) MDE T-700-401D engines. The following non-MDE is also included in this notification: Infrared Zoom Laser Illuminator Designators (IZLID); AN/PYQ-10 Simple Key Loaders (SKL); and other related elements of logistics and program support. The estimated MDE value will increase by $50 million to a revised $475 million. However, this increase will not cause an increase in the estimated total case value, which will remain $950 million.

(iv) Significance: This notification is being provided as the additional items were not enumerated in the original notification. The proposed sale will improve Spain's capability to meet current and future threats. This proposed sale will provide the capability to perform anti-surface and anti-submarine warfare missions along with the ability to perform secondary missions including vertical replenishment, search and rescue, and communications relay, and will bolster the Spanish Navy's ability to support NATO and remain interoperable with the U.S. and the NATO alliance.

(v) Justification: This proposed sale will support the foreign policy and national security objectives of the U.S. by helping to improve the security of a NATO Ally which is an important force for political stability and economic progress in Europe.

(vi) Sensitivity of Technology:

The Sensitivity of Technology Statement contained in the original notification applies to items reported here.

The highest level of classification of defense articles, components, and services included in this potential sale is SECRET.

(vii) Date Report Delivered to Congress: October 25, 2024

[FR Doc. 2025-22715 Filed 12-12-25; 8:45 am]

BILLING CODE 6001-FR-P